DEPARTMENT OF THE TREASURY

Amendment and Update to the Entry for an Individual Named in the Annex to Executive Order 13219, as Amended by Executive Order 13304

AGENCY: Office of Foreign Assets Control, Department of the Treasury.

ACTION: Notice.

SUMMARY: The Department of Treasury's Office of Foreign Assets Control (“OFAC”) is announcing an update to the entry of an individual on OFAC's list of Specially Designated Nationals and Blocked Persons (“SDN List”). The individual's date of birth has been amended and two addresses and an alternate place of birth have been added to the SDN List entry. The individual was listed in the Annex to Executive Order 13219 (“E.O. 13219”) of June 26, 2001, “Blocking Property of Persons Who Threaten International Stabilization Efforts in the Western Balkans,” as amended by Executive Order 13304 (“E.O. 13304”) of May 28, 2003, “Termination of Emergencies With Respect to Yugoslavia and Modification of Executive Order 13219 of June 26, 2001.”

DATES: The update to the entry of this individual on the SDN List is effective May 26, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treasury.gov/ofac) or via facsimile through a 24-hour fax-on-demand service, Tel.: 202/622-0077.

Background

On June 26, 2001, the President, invoking the authority of, inter alia, the International Emergency Economic Powers Act (50 U.S.C. 1701-1706) (“IEEPA”), issued E.O. 13219. In E.O. 13219, the President declared a national emergency to deal with the threat to stability and security in the Western Balkans region. On May 28, 2003, the President, invoking the authority of, inter alia, IEEPA, issued E.O. 13304, in order to, inter alia, take additional steps with respect to the national emergency declared in E.O. 13219. Section 1 of E.O. 13219, as amended by E.O. 13304, blocks, with certain exceptions, all property and interests in property that are in the United States, or that hereafter come within the United States, or that are or hereafter come within the possession or control of United States persons of:

(i) The persons listed in the Annex to E.O. 13304; and

(ii) Persons designated by the Secretary of the Treasury, in consultation with the Secretary of State, because they are determined:

(A) To be under open indictment by the International Criminal Tribunal for the former Yugoslavia, unless circumstances warrant otherwise; or

(B) To have committed, or to pose a significant risk of committing, acts of violence that have the purpose or effect of threatening the peace in or diminishing the stability or security of any area or state in the Western Balkans region, undermining the authority, efforts, or objectives of international organizations or entities present in the region, or endangering the safety of persons participating in or providing support to the activities of those international organizations or entities; or

(C) To have actively obstructed, or pose a significant risk of actively obstructing, the Ohrid Framework Agreement of 2001 relating to Macedonia, United Nations Security Council Resolution 1244 relating to Kosovo, or the Dayton Accords or the Conclusions of the Peace Implementation Conference held in London on December 8-9, 1995, including the decisions or conclusions of the High Representative, the Peace Implementation Council or its Steering Board, relating to Bosnia and Herzegovina; or

(D) To have materially assisted in, sponsored, or provided financial, material, or technological support for, or goods or services in support of, such acts of violence or obstructionism or any person listed in or designated pursuant to this order; or

(E) To be owned or controlled by, or acting or purporting to act directly or indirectly for or on behalf of, any of the foregoing persons.

On May 26, 2011, the Director of OFAC determined that the entry on the SDN List for the individual listed below, who was listed in the Annex to E.O. 13219, as amended by E.O. 13304, should be amended:

Karadzic, Luka; DOB 31 April 1951; POB Savnik, Serbia and Montenegro (individual) [BALKANS].

The proposed modification to that entry is as follows:

Karadzic, Luka; Dubrovacka Street No 14, Belgrade, Serbia; Janka Vukotica Street No 24, Rastoci, Municipality of Niksic, Montenegro; DOB 31 July 1951; alt. DOB 1 July 1951; POB Savnik, Serbia and Montenegro; alt. POB Petnic, Serbia and Montenegro (individual) [BALKANS]

Dated: June 1, 2011.
Adam J. Szubin,
Director, Office of Foreign Assets Control.

[FR Doc. 2011-14301 Filed 6-8-11; 8:45 am]

BILLING CODE 4810-AL-P